DEPARTMENT OF TRANSPORTATION

Federal Railroad Administration

Environmental Impact Statement for the Altamont Corridor Rail Project From Stockton to San Jose, CA

AGENCY: Federal Railroad Administration (FRA), U.S. Department of Transportation (DOT).

ACTION: Notice of intent to prepare an environmental impact statement (EIS).

SUMMARY: FRA is issuing this Notice to advise other agencies and the public that FRA and the California High-Speed Rail Authority (Authority) will be preparing an Environmental Impact Report/Environmental Impact Statement (EIR/EIS) for the Altamont Corridor Rail Project proposed by the Authority and the San Joaquin Regional Rail Commission (SJRRC) from Stockton to San Jose via the Altamont Pass and Tri Valley area, connecting the Northern San Joaquin Valley and the San Francisco Bay Area. The Authority and SJRRC are proposing to develop a dedicated regional rail corridor through the Altamont Pass and the Tri Valley area capable of supporting intercity and commuter rail passenger services. The project EIR/EIS will be prepared in compliance with relevant Federal and State laws, in particular the National Environmental Policy Act (NEPA) and the California Environmental Quality Act (CEQA). The Federal Transit Administration (FTA) will serve as a cooperating agency for the preparation of the EIR/EIS.

FRA is issuing this Notice to alert interested parties and solicit public and agency input into the development of the scope of the EIS and to advise the public that outreach activities conducted by the Authority, the SJRRC, and their representatives will be considered in the preparation of the combined EIR/EIS.

DATES: Written comments on the scope of the Altamont Corridor Rail Project EIR/EIS, including the project's purpose and need, the alternatives to be considered, the impacts to be evaluated and the methodologies to be used in the evaluations, should be provided to the Authority by December 4, 2009. Public scoping meetings are scheduled from November 10 to November 18, 2009, at the times and dates listed below in Livermore, Stockton, Fremont, and San Jose, California.

ADDRESSES: Written comments on the project scope should be sent to Mr. Dan Leavitt, Deputy Director, ATTN: Altamont Corridor Rail Project EIR/EIS, California High-Speed Rail Authority, 925 L Street, Suite 1425, Sacramento, CA 95814, or via e-mail with the Subject line “Altamont Corridor Rail Project EIR/EIS” to: comments@hsr.ca.gov. Comments may also be provided orally or in writing at the scoping meetings scheduled at the following locations:

• Livermore, CA, November 10, 2009, from 3 p.m. to 8 p.m., Robert Livermore Community Center, 4444 East Avenue, Livermore, CA.

• Stockton, CA, November 12, 2009, from 3 p.m. to 8 p.m., San Joaquin Council of Governments, 555 E. Weber Avenue, Stockton, CA.

• Fremont, CA, November 17, 2009, from 3 p.m. to 8 p.m., Fremont Teen Center, 39770 Paseo Padre Parkway, Fremont, CA.

• San Jose, CA, November 18, 2009, from 3 p.m. to 8 p.m., Le Petit Trianon Theatre, 72 North Fifth Street, San Jose, CA.

The project's purpose and need and the description of alternatives currently under consideration for the proposed action will be presented at these meetings. The meeting facilities will be accessible to persons with disabilities. If special translation or signing services or other special accommodations are needed, please contact Ms. Kim Christensen at (415) 955-2800 or kim.christensen@aecom.com at least 48 hours before the scoping meeting. Also, scoping materials will be made available through the Authority's Internet site: http://www.cahighspeedrail.ca.gov/.

FOR FURTHER INFORMATION CONTACT: Mr. David Valenstein, Environmental Program Manager, Office of Passenger and Freight Programs, USDOT/Federal Railroad Administration, 1200 New Jersey Avenue, SE. (Mail Stop 20), Washington, DC 20590 (telephone 202-493-6368); or Mr. Dan Leavitt, Deputy Director, ATTN: Altamont Corridor Rail Project EIR/EIS, California High-Speed Rail Authority, 925 L Street, Suite 1425, Sacramento, CA 95814 (telephone: 916-322-1397).

SUPPLEMENTARY INFORMATION:

Scoping

The FRA, the Authority, and SJRRC invite all interested individuals, and organizations, public agencies, and Native American Tribes to comment on the scope of the EIS, including the project's purpose and need, the alternatives to be studied, the impacts to be evaluated and the evaluation methods to be used. Comments should focus on: Alternatives that may be less costly or have fewer environmental or community impacts while achieving similar transportation objectives and the identification of any significant social, economic, or environmental issues related to alternatives.

The Proposed Project

The Authority and SJRRC are proposing to develop a dedicated regional rail corridor through Altamont Pass and the Tri Valley area capable of supporting intercity and commuter rail passenger services. The project would improve the existing Altamont Commuter Express (ACE) service managed by SJRRC by accommodating more trains per day, reducing travel times, and eliminating freight railroad delays by providing separate passenger tracks. The Altamont Corridor will serve as a feeder to the statewide High-Speed Train (HST) System being planned and developed by the Authority. The project will consider connections between the Altamont corridor and the HST mainline between Stockton and Modesto and HST-compatible infrastructure that would allow trains to run from one rail line to the other in order to accommodate intercity travel between stations along the Altamont Corridor and regional stops on the greater statewide HST System.

The preparation of this Altamont Corridor Rail Project EIR/EIS will involve development of preliminary engineering designs and assessment of environmental effects associated with the construction, operation, and maintenance of the project including track, ancillary facilities, and stations along the Altamont Corridor.

Agency Responsibilities

The Authority was established in 1996 and is authorized and directed by statute to undertake the planning for the development of a proposed statewide HST System that is fully coordinated with other public transportation services. The Authority has jurisdiction for planning passenger rail service capable of speeds over 125 miles per hour (mph); high-speed equipment may attain speeds higher than 125 miles per hour when operating on the proposed Altamont Corridor Rail Project. The SJRRC manages and operates the current ACE between Stockton and San Jose. Because the proposed Altamont Corridor Rail Project may include high-speed compatible equipment capable of attaining speeds higher than 125 mph, this undertaking is within the Authority's statutory authority. It is anticipated that the SJRRC would provide regional rail service between the northern San Joaquin Valley and the Bay Area through the improved alignment which would be provided by the Project.

The FRA has responsibility for overseeing the safety of railroad operations, including the safety of any proposed high-speed rail transportation system. For the proposed project, FRA may need to take certain regulatory actions prior to operation. The FRA is also authorized to provide Federal funding for intercity passenger rail capital investments through high-speed and intercity passenger rail grant programs created in the Passenger Rail Investment and Improvement Act of 2008. The FTA has responsibility for providing Federal funding for intra-city commuter rail capital investments. FTA has funded improvements in this corridor in the past including intermodal stations and park and ride lots.

To ensure compliance with the various State and Federal environmental laws, the Authority is the State lead agency for purposes of compliance with CEQA and the FRA is the lead Federal agency for purposes of compliance with NEPA. Since FTA maintains an interest in transportation improvements in the corridor, it will be a cooperating agency in this endeavor in accordance with 40 CFR 1501.6.

The Altamont Corridor Partnership Working Group (Working Group) was established by the Authority to bring together local partners for the purpose of identifying goals, objectives, and key features of a joint-use regional rail improvement in the corridor. Members include the San Joaquin Council of Governments, the California Partnership for the San Joaquin Valley, Great Valley Center, the Tri Valley Policy Advisory Committee, the Alameda County Congestion Management Agency, the Metropolitan Transportation Commission, and the Sacramento Area Council of Governments, along with service providers including Altamont Commuter Express, Bay Area Rapid Transit District (BART), Capitol Corridor, SamTrans, and Caltrain. The Working Group recognizes the importance of the corridor for regional transportation needs and has reached consensus on the corridor limits (Stockton to San Jose), principal features including key intermodal connections, and goals and objectives which include improving the ACE service in the near term as well as developing capability to accommodate high-speed trains through connections to the HST System and HST-compatible equipment. The Working Group will continue to support the project as it moves forward in the planning and implementation process.

Past Planning Efforts

The Altamont Corridor was studied by the Authority and identified as a candidate route to the Bay Area in the Statewide HST System Program EIR/EIS. The Authority and FRA further examined the corridor in the 2008 Bay Area to Central Valley HST EIR/EIS and selected the Pacheco Pass via Gilroy as the route to connect the main line of the HST network in the Central Valley with the Peninsula and San Francisco. However, in the Bay Area to Central Valley HST EIR/EIS, the Authority also indicated that they would pursue a regional joint-use rail project in the Altamont Corridor as an independent project to meet a purpose and need separate from the proposed HST System, which might provide both HST compatible infrastructure and connection(s) to the statewide HST System.

Subsequently, the Authority began to work with a regional partnership to plan a joint-use rail line through the Altamont Pass that would support new regional intercity and commuter rail services operating in Northern California between Stockton and San Jose and capable of accommodating HST-compatible equipment. Accordingly, the Authority and the SJRRC reached an agreement and are proposing to develop a new regional rail line from Stockton to San Jose through the Altamont Pass as well as eastern and southern Alameda County to provide both commuter and intercity passenger rail service that would improve connectivity and accessibility between the Northern San Joaquin Valley and the Bay Area. The rail line would be designed and equipped to accommodate electrified light-weight passenger trains and would be useable by HST-compatible equipment.

The development of the Altamont Corridor Rail Project as a complement to the Statewide HST System is consistent with the Metropolitan Transportation Commission (MTC) Bay Area Regional Rail Plan, which identified the Altamont Corridor as a key future northern California regional rail route and also noted that development of this corridor in conjunction with implementation of the statewide HST System could provide greater benefits to the State and region.

The Altamont Corridor Rail Project EIR/EIS will build upon the Bay Area Regional Rail Plan and upon relevant decisions made with the statewide HST and Bay Area to Central Valley HST program EIR/EISs. The Altamont Corridor EIR/EIS will be carried out in accordance with the Council on Environmental Quality (CEQ) regulations (40 CFR 1500 et seq.), State CEQA Guidelines (14 California Code of Regulations 15168(b)) and FRA's Procedures for Considering Environmental Impacts (64 FR 28545, May 26, 1999).

In concert with the spirit of the CEQ's NEPA regulations, FRA will encourage incorporation by reference (40 CFR 1502.21) of preceding planning and environmental documents. Also, it is one of the mandates of the CEQ regulations that Federal agencies reduce paperwork (§ 1500.4), produce a reasonable number of pages without being overwhelming (§ 1502.7) and create environmental documents that are written in plain language and are highly accessible to the reader (§ 1502.8). The NEPA document will emphasize graphics, virtual simulation, and an accessible narrative format. Technical documentation will be established in appendices.

The FRA and the Authority will assess the site characteristics, size, nature, and timing of the project to determine whether the impacts are potentially significant and whether impacts can be avoided or mitigated. The Altamont Corridor Rail Project EIR/EIS will identify and evaluate reasonable and feasible site-specific alignment alternatives, evaluate the impacts from construction, operation, and maintenance of the project, and identify mitigation measures. Information and documents regarding the Altamont Corridor Rail Project environmental review process will be made available through the Authority's Internet site: http://www.cahighspeedrail.ca.gov/.

Purpose and Need of the Proposed Project

The purpose of the Altamont Corridor Rail Project is to develop a joint-use regional rail corridor for intercity passenger rail and commuter rail services between Stockton and San Jose via the Altamont Pass and the Tri Valley area providing connecting links with the statewide HST System. This transportation improvement is necessary to facilitate regional intercity and local travel and connectivity through the Altamont Pass gateway between the San Francisco Bay Area and the Northern San Joaquin Valley. It would provide important regional links to the statewide HST network, and replace the ACE with new, faster, more frequent intercity and commuter rail services with more trains per day and extended hours of operation, consistent with key project goals of providing improved travel times and expanded service both to address the regional need for an intercity and commuter rail mobility option in the I-580/I-205 corridor as well as provide a feeder to the statewide HST System.

The need for the Altamont Corridor Rail Project stems from the social and economic ties and travel demand that bind together the Northern San Joaquin Valley, the Tri Valley, and the South Bay Area as well as high levels of existing and future anticipated growth, travel demand, and congestion that will cause environmental degradation and higher risks to safety if not addressed. This need cannot be met by the existing ACE service or infrastructure which has significant operating limitations including:

• Limited capacity single track for much of the route;

• Slow average operating speeds;

• Reliance on dispatching by a third party;

• Service limitations; and

• A Common passenger and freight railroad right-of-way.

Alternatives

The Altamont Corridor Rail Project EIR/EIS will consider a No Action or No Project Alternative and project build alternatives.

No Action Alternative

The No Action (No Project or No Build) Alternative is defined to serve as the baseline for assessment of the project alternatives. The No Action Alternative represents the region's transportation system (highway, air, and conventional rail) as it exists in 2009, and as it would exist after completion of the programs or projects currently planned for funding and implementation by 2035. The No Action Alternative defines the existing and future intercity transportation system for the Altamont Corridor based on programmed and funded improvements to the intercity transportation system through 2035, according to the following sources of information: the State Transportation Improvement Program (STIP), Regional Transportation Plans (RTPs) for all modes of travel, airport plans, and intercity passenger rail plans.

Project Alternatives

At this time, no proposed alignments have been identified for the Altamont Corridor Rail Project; however, the corridor limits are between Stockton and San Jose, California, which are the terminal stations for the current ACE service. Specific alignments and station locations will be identified along this corridor and evaluated through the preparation of this project environmental document. The Altamont Corridor Rail Project is intended to include a potential branch east of Tracy to allow operation of trains between the Bay Area and points north including Stockton and Sacramento as well as points south including Modesto and beyond within the statewide HST System. Project alternatives are intended to provide intermodal connections to the Bay Area Rapid Transit (BART) to serve the Oakland Airport, the cities of Oakland and San Francisco as well as other East Bay and South Bay locations via BART. Intermodal connections to BART would be provided in the Livermore vicinity, should the Dublin/Pleasanton BART line be extended, as well as in the Fremont/Union City vicinity, either meeting the existing Fremont line or the Warm Springs/San Jose extension. The Altamont Corridor Rail Project may also accommodate a future connection to the Dumbarton rail service in the Fremont/Union City vicinity as well as an intermodal connection to the Valley Transportation Authority (VTA) light rail network in Santa Clara County. Additionally, the project will accommodate feeder and connecting bus services providing access to proximate market areas and interfacing with regional bus links where appropriate.

Selected Planning Requirements: To meet the purpose and need, the following initial considerations and potential requirements for project alternatives have been identified:

• Number of Tracks—Two main tracks with appropriately located crossovers should be sufficient to support frequent intercity and regional service in the Altamont Corridor. Although the operating plan may include regional trains making all stops in addition to regional limited service intercity trains which would skip selected stops, two track stations are expected to be sufficient.

• Maximum Speed/Horizontal Curves—The ultimate project goal is to accommodate lightweight electric multiple-unit trains which could be operated on other parts of the statewide HST network. The existing corridor has sections which pass through rural areas with stations 12 or more miles apart. Under these conditions, speeds in excess of 125 mph, possibly exceeding 150 mph could be attained (as was identified for sections in the San Joaquin Valley in Bay Area to Central Valley HST EIR/EIS). A maximum speed will not be established until alignment options and station locations are identified in more detail. The ultimate alignment speed will be determined by identifying a cost-effective solution taking into account station spacing, profile grades, safety, and vehicle technology. Accordingly, the planning standard for horizontal curves will be developed to support the highest feasible speed where the alignment is unconstrained.

Alternatives Analysis: Further engineering studies will examine and refine alignments in the selected corridor, including previously considered alignment alternatives contained in the Bay Area Regional Rail Plan, the 2008 Bay Area to Central Valley HST EIR/EIS, alternatives that may be suggested in scoping, and other alternatives within the study corridor that would satisfy the purpose and need of the project. Alignment options for evaluation in the EIR/EIS will be selected by the Authority and FRA, in cooperation with the SJRRC and FTA, after considering the project purpose and need, practicality, feasibility, travel time, train speed, cost, safety, local access times, potential connections with other modes of transportation, ridership potential, the distribution of population and major destinations along the route, local planning constraints/conditions, and environmental considerations.

Station location options will be identified in conjunction with candidate alignments and evaluated by the Authority and FRA taking into account travel time, train speed, cost, local access times, potential connections with other modes of transportation, ridership potential, the distribution of population and major destinations along the route, and local planning constraints/conditions. Station area development policies to encourage transit-friendly development near and around proposed stations will be prepared in coordination with local and regional planning agencies to promote higher density, mixed-use, pedestrian-oriented development around the stations. Although no specific station sites have been identified, candidate locations developed in cooperation with the Working Group include: Stockton, Modesto, Tracy, Livermore, Pleasanton, Fremont/Union City, Milpitas, and San Jose. Additional station locations may be considered, including those suggested in scoping. Multimodal opportunities would also be considered at stations in Stockton, Modesto, Livermore, Fremont/Union City, Milpitas, and San Jose to connect with the HST mainline, BART, Caltrain, and VTA.

Implementation Phasing: Due to the length of the corridor, it is anticipated that the project would be implemented in phases. Although specific phasing cannot be identified until the project alternatives are defined and evaluated, consideration will be given to identifying “building blocks” both with regard to geographic segments as well as levels of investment (e.g., improved conventional service vs. high-speed electrified service) which would be combined in a logical fashion to provide a corridor development plan. As a result, portions of the project could be implemented to provide near-term improvements to the existing ACE service. As connecting with BART is essential to provide access to the greater Bay Area including Oakland, consideration will be given to project phases meeting BART either in Livermore (with a BART extension) or in the Fremont/Union City vicinity.

The EIS Process and the Role of Participating Agencies and the Public

The purpose of the EIR/EIS process is to explore in a public setting the potentially significant effects of implementing the proposed action on the physical, human, and natural environment. Areas of investigation will be developed during the scoping process and may include, but not be limited to, transportation impacts; safety and security; land use and zoning; indirect and cumulative impacts; land acquisition, displacements, and relocations; cultural resource impacts, including impacts on historical and archaeological resources and parklands/recreation areas; neighborhood compatibility and environmental justice; natural resource impacts including air quality, wetlands, water resources, noise, vibration, energy, wildlife; and ecosystems, including endangered species and temporary construction impacts.

FRA and the Authority will comply with all environmental laws, regulations, and executive orders applicable to the proposed project during the environmental review process to the maximum extent practicable. These requirements include, but are not limited to, the regulations of the CEQ implementing NEPA (40 CFR parts 1500-1508), State CEQA Guidelines (14 California Code of Regulations 15168(b)) and FRA's Procedures for Considering Environmental Impacts (64 FR 28545, May 26, 1999), project-level air quality conformity regulation of the U.S. Environmental Protection Agency (EPA) (40 CFR part 93(b)), Section 404(b)(1) EPA guidelines (40 CFR part 230), Executive Orders 11988, 11990, and 12898 regarding floodplains, wetlands, and environmental justice, respectively, Section 106 of the National Historic Preservation Act (36 CFR part 800), Section 7 of the Endangered Species Act (50 CFR part 402), and Section 4(f) of the Department of Transportation Act (49 USC 303). Measures to avoid, minimize, and mitigate all adverse impacts will be identified and evaluated.

Scoping and Comments

FRA encourages broad participation in the EIS process during scoping and review of the resulting environmental documents. Comments and suggestions are invited from all interested agencies, Native American Tribes, and the public at large so that the full range of issues related to the proposed action and all reasonable alternatives are addressed and that all significant issues are identified. In particular, FRA is interested in learning whether there are areas of environmental concern where there might be a potential for significant impacts. Public agencies with jurisdiction are requested to advise FRA and the Authority of the applicable permit and environmental review requirements of each agency, and the scope and content of the environmental information that is germane to the agency's statutory responsibilities in connection with the proposed project. Public agencies are requested to advise FRA if they anticipate taking a major action in connection with the proposed project and if they wish to cooperate in the preparation of the project EIS/EIR.

Public scoping meetings have been scheduled as an important component of the scoping process for both the State and Federal environmental review. The scoping meetings described in this Notice will be advertised locally and additional public notice will be provided separately with the dates, times, and locations of these scoping meetings.

Issued in Washington, DC, on October 23, 2009.
Mark E. Yachmetz,
Associate Administrator for Railroad Development, Federal Railroad Administration.

[FR Doc. E9-26098 Filed 10-28-09; 8:45 am]

BILLING CODE 4910-06-P